DEPARTMENT OF TRANSPORTATION

Pipeline and Hazardous Materials Safety Administration

[Docket: PHMSA-98-4957]

Request for Public Comments and Office of Management and Budget Approval of Existing Information Collection Requirements (2137-0578 and 2137-0579)

AGENCY: Pipeline and Hazardous Materials Safety Administration (PHMSA), U.S. Department of Transportation (DOT).

ACTION: Notice and request for comments.

SUMMARY: In compliance with the Paperwork Reduction Act of 1995 (PRA), this notice requests public participation in the Office of Management and Budget (OMB) approval process for the renewal and extension of two information collection requirements: “Reporting of Safety-Related Conditions on Gas, Hazardous Liquid, and Carbon Dioxide Pipelines and Liquefied Natural Gas Facilities” and “Drug and Alcohol Testing of Pipeline Operators.” PHMSA invites the public to submit comments over the next 60 days on whether the collection of this information is necessary for the proper performance of the functions of DOT.

DATES: Submit comments on or before August 7, 2007.

ADDRESSES: Reference Docket PHMSA-98-4957 and submit comments in one of the following ways:

• DOT Web Site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 1200 New Jersey Avenue, SE., Room W12-140, Washington, DC 20590.

• Hand Delivery: DOT Docket Management System; 1200 New Jersey Avenue, SE., West Building Ground Floor, Room W12-140, Washington, DC, between 9 a.m. and 5 p.m., Monday through Friday, except Federal holidays.

• E-Gov Web Site: http://www.regulations.gov. This site allows the public to enter comments on any Federal Register notice issued by any agency.

Instructions: Identify the docket number, PHMSA-98-4957, at the beginning of your comments. If you mail your comments, send two copies. To receive confirmation that PHMSA received your comments, include a self-addressed stamped postcard. Internet users may submit comments at http://www.regulations.gov, and may access all comments received by DOT at http://dms.dot.gov by performing a simple search for the docket number.

Note: PHMSA posts all comments without changes or edits to http://dms.dot.gov, including any personal information provided.

Privacy Act

Anyone can search the electronic form of all comments received in response to any of our dockets by the name of the individual submitting the comment (or signing the comment, if submitted on behalf of an association, business, labor union, etc.). DOT's complete Privacy Act Statement was published in the Federal Register on April 11, 2000 (65 FR 19477), and is on the Web at http://dms.dot.gov.

FOR FURTHER INFORMATION CONTACT: Roger Little at (202) 366-4569, or by e-mail at roger.little@dot.gov.

SUPPLEMENTARY INFORMATION: This notice identifies two existing information collection requirements PHMSA is submitting to OMB for renewal and extension. These collection requirements are in 49 CFR parts 192, 193, 195 and 199 of the pipeline safety regulations. PHMSA has revised the burden estimates, where appropriate, to reflect current reporting levels or adjustments based on changes made since the last OMB approvals. PHMSA is now requesting that OMB grant a three-year term of approval for each requirement.

Pursuant to 44 U.S.C. 3506(c)(2)(A) of the PRA, PHMSA invites comments on whether the renewal and extension of the existing information collection requirements are necessary for the proper performance of the functions of DOT. Information collection includes all work related to preparing and disseminating information related to this information collection requirements, including completing paperwork, gathering information, and conducting telephone calls. Comments may include (1) whether the information will have practical utility; (2) the accuracy of DOT's estimate of the burden of the proposed information collections; (3) ways to enhance the quality, utility, and clarity of the information collection; and (4) ways to minimize the burden of the information collection requirements on respondents, including the use of automated collection techniques or other forms of information technology.

OMB control No. | Regulation title | Number of respondents | Estimated total annual burden (hours)
2137-0578 | Reporting of Safety-Related Conditions on Gas, Hazardous Liquid and Carbon Dioxide Pipelines and Liquefied Natural Gas Facilities | 127 | 762
2137-0579 | Drug and Alcohol Testing of Pipeline Operators | 2419 | 2,963

Title 49 of the United States Code § 60102 requires operators of gas, hazardous liquid, and carbon dioxide pipelines, or liquefied natural gas facilities to submit a written report on any safety-related conditions that cause a significant operational change or restriction that presents a hazard to life, property, or the environment. PHMSA uses this information to identify safety-related trends and take action to reduce pipeline accidents and incidents. Part 199 require pipeline operators to conduct drug and alcohol testing of employees who perform operation, maintenance, or emergency-response functions. PHMSA uses this information to reduce pipeline accidents and incidents by deterring and detecting illegal drug use and alcohol misuse in the pipeline industry.

Issued in Washington, DC on June 4, 2007.
Florence L. Hamn,
Director of Regulations, Office of Pipeline Safety.

[FR Doc. E7-11077 Filed 6-7-07; 8:45 am]

BILLING CODE 4910-60-P